DEPARTMENT OF TRANSPORTATION

Pipeline and Hazardous Materials Safety Administration

[Docket ID PHMSA-2009-0157]

Pipeline Safety: Government/Industry Pipeline Research and Development Forum

AGENCY: Pipeline and Hazardous Materials Safety Administration (PHMSA), DOT.

ACTION: Notice of forum.

SUMMARY: PHMSA executes a collaborative, coordinated, competitive and co-funded research and development (R&D) program with the pipeline industry and other Federal and State regulators. PHMSA periodically holds a Pipeline R&D Forum to generate recommendations on the future R&D required in addressing mutual challenges. Specifically, this forum will bring government and industry pipeline stakeholders together for the following purposes:

(1) Develop recommendations to address the technical gaps & challenges for future R&D;

(2) Identify both short and long term research objectives for liquid/gas transmission and gas distribution pipelines;

(3) Quantify technical details on identified technical gaps so solicited research is addressing the need effectively; and

(4) Provide details on the ultimate research goals so appropriate end users are factored into project scopes.

DATES: The forum will be held starting on June 24, 2009, at 8 a.m. and concluding on June 25, 2009, at 4 p.m. Pre-Registration is available now and until June 19, 2009, to obtain a name tag to this free public event. Onsite registration will be available for the public on the morning of June 24, 2009. Please note that a Web cast will not be available for the forum. However, presentations will be available on the R&D Program Web site (http://primis.phmsa.dot.gov/rd/workshops.htm) shortly after the forum.

Please visit http://primis.phmsa.dot.gov/meetings/MtgHome.mtg?mtg=59 for more information on the agenda and reservations.

ADDRESSES: The workshop will be held at the Marriott Crystal City, 1999 Jefferson Davis Highway, Arlington, VA 22202, Phone: 1-800-228-9290, or Phone: 1-703-413-5500. The Marriott Web page for this hotel is found at: http://www.marriott.com/hotels/travel/wascc-crystal-city-marriott-at-reagan-national-airport/ or http://www.marriott.com/default.mi and by typing DCA into the City or Airport Code Search.

Hotel reservations must be made on or before June 9, 2009, to receive a rate of $209 for the nights of Tuesday, June 23 and Wednesday, June 24. Mention “USDOT R&D Forum” when you make your reservations to receive this rate. Please call the Marriott for more information on the Americans with Disabilities Act amenities at this location.

FOR FURTHER INFORMATION CONTACT: Robert Smith at (202) 366-3814, or by e-mail at robert.w.smith@dot.gov.

SUPPLEMENTARY INFORMATION:

Registration: Members of the public may attend this free forum. To help assure that adequate space is provided, all attendees are encouraged to pre-register for the forum at http://primis.phmsa.dot.gov/meetings/MtgHome.mtg?mtg=59. Hotel reservations must be made by contacting the hotel directly.

Information on Services for Individuals with Disabilities: For information on facilities or services for individuals with disabilities, or to request special assistance at the meeting, please contact Robert Smith or the Marriott by June 23, 2009.

Issued in Washington, DC, on May 29, 2009.
Jeffrey D. Wiese,
Associate Administrator for Pipeline Safety.

[FR Doc. E9-13180 Filed 6-4-09; 8:45 am]

BILLING CODE 4910-60-P